DEPARTMENT OF TRANSPORTATION

Federal Aviation Administration

14 CFR Part 39

[Docket No. FAA-2017-0339; Directorate Identifier 2016-NM-078-AD]

RIN 2120-AA64

Airworthiness Directives; Airbus Airplanes

AGENCY: Federal Aviation Administration (FAA), DOT.

ACTION: Notice of proposed rulemaking (NPRM).

SUMMARY: We propose to supersede Airworthiness Directive (AD) 2014-13-17, for all Airbus Model A300 series airplanes; Airbus Model A300 B4-600, B4-600R, and F4-600R series airplanes, and Model A300 C4-605R Variant F airplanes (collectively called Model A300-600 series airplanes); and Airbus Model A310 series airplanes. AD 2014-13-17 currently requires repetitive functional tests of the circuit breakers for the fuel pump power supply, and replacement of certain circuit breakers. Since we issued AD 2014-13-17, we have determined that installation of a newly developed fuel pump standard will better address the unsafe condition. This proposed AD would require installation of fuel pumps having the new standard, which would terminate the repetitive functional tests. We are proposing this AD to address the unsafe condition on these products.

DATES: We must receive comments on this proposed AD by June 30, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0339; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposal. Send your comments to an address listed under the ADDRESSES section. Include “Docket No. FAA-2017-0339; Directorate Identifier 2016-NM-078-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On June 25, 2014, we issued AD 2014-13-17, Amendment 39-17893 (79 FR 41098, July 15, 2014) (“AD 2014-13-17”). AD 2014-13-17 requires actions intended to address an unsafe condition on all Airbus Model A300 series airplanes; Model A300-600 series airplanes; and Airbus Model A310 series airplanes.

Since we issued AD 2014-13-17, a new fuel pump standard was developed that has improved thermal protection. This improved thermal protection prevents a fuel pump from overheating, and possibly resulting in a fuel tank explosion and loss of the airplane. We have determined that installation of the fuel pump standard will better address the unsafe condition than the currently required repetitive functional tests.

The European Aviation Safety Agency (EASA), which is the Technical Agent for the Member States of the European Union, has issued EASA Airworthiness Directive 2016-0080, dated April 21, 2016 (referred to after this as the Mandatory Continuing Airworthiness Information, or “the MCAI”), to correct an unsafe condition for all Airbus Model A300 series airplanes; Model A300-600 series airplanes; and Airbus Model A310 series airplanes. The MCAI states:

Two successive failures have been reported of a Right Hand # 1 inner tank fuel pump, Part Number (P/N) 2052Cxx series (where “xx” represents any numerical combination). These occurrences were solved by replacement of the pump, associated circuit breaker (CB) and the alternating current (AC) bus load relay.

Investigations determined that, in case of loss of one phase on the pump supply and the associated CB failing to trip, the fuel pump thermal fuses may not operate as quickly as expected.

This condition, if not detected and corrected, could lead to an overheat condition of the fuel pump in excess of 200°C, possibly resulting in a fuel tank explosion and loss of the aeroplane.

To address this potential unsafe condition, Airbus issued Alert Operator Transmission (AOT) A28W002-13 providing instructions for functional tests of CBs.

As a temporary measure, EASA issued AD 2013-0163 [which corresponds to FAA AD 2014-13-17] to require repetitive functional tests of the affected fuel pump power supply CBs, and, depending on findings, replacement.

Since that [EASA] AD was issued, a new standard of fuel pump was developed, which improves the thermal protection, thereby preventing the potential unsafe condition and cancelling the need for repetitive functional tests of the affected CBs, as required by EASA AD 2013-0163. Airbus issued Service Bulletin (SB) A300-28-0093, SB A300-28-6111, SB A300-28-9025 and SB A310-28-2176 to provide instructions for this upgrade of the fuel pump for all positions on the aeroplane.

For the reasons described above, this [EASA] AD retains the requirements EASA AD 2013-0163, which is superseded, and requires installation of the new standard fuel pump, which constitutes terminating action for the repetitive functional tests.

You may examine the MCAI in the AD docket on the Internet at http://www.regulations.gov by searching for and locating Docket No. FAA-2017-0339.

Related Service Information Under 1 CFR Part 51

Airbus has issued the following service information, which describes procedures for installing new standard fuel pumps with improved thermal protection. These documents are distinct since they apply to different airplane models in different configurations.

• Service Bulletin A300-28-0093, dated December 15, 2015.

• Service Bulletin A300-28-6111, Revision 01, dated February 29, 2016.

• Service Bulletin A310-28-2176, dated December 15, 2015.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 128 airplanes of U.S. registry.

The actions required by AD 2014-13-17 and retained in this proposed AD take about 1 work-hour per product, at an average labor rate of $85 per work-hour. Based on these figures, the estimated cost of the actions that are required by AD 2014-13-17 is $85 per product, per inspection cycle.

We also estimate that it would take up to 21 work-hours per product to comply with the basic requirements of this proposed AD. The average labor rate is $85 per work-hour. Required parts cost per product is not available. Based on these figures, we estimate the cost of this proposed AD on U.S. operators to be up to $228,480, or up to $1,785 per product.

According to the manufacturer, some of the costs of this proposed AD may be covered under warranty, thereby reducing the cost impact on affected individuals. We do not control warranty coverage for affected individuals. As a result, we have included all available costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-13-17, Amendment 39-17893 (79 FR 41098, July 15, 2014), and adding the following new AD:

Airbus: Docket No. FAA-2017-0339; Directorate Identifier 2016-NM-078-AD.

(a) Comments Due Date

We must receive comments by June 30, 2017.

(b) Affected ADs

This AD replaces AD 2014-13-17, Amendment 39-17893 (79 FR 41098, July 15, 2014) (“AD 2014-13-17”).

(c) Applicability

This AD applies to the Airbus airplanes, certificated in any category, identified in paragraphs (c)(1) through (c)(6) of this AD, all manufacturer serial numbers.

(1) Airbus Model A300 B2-1A, B2-1C, B2K-3C, B2-203, B4-2C, B4-103, and B4-203 airplanes.

(2) Airbus Model A300 B4-601, B4-603, B4-620, and B4-622 airplanes.

(3) Airbus Model A300 B4-605R and B4-622R airplanes.

(4) Airbus Model A300 C4-605R Variant F airplanes.

(5) Airbus Model A300 F4-605R and F4-622R airplanes.

(6) Airbus Model A310-203, -204, -221, -222, -304, -322, -324, and -325 airplanes.

(d) Subject

Air Transport Association (ATA) of America Code 28, Fuel.

(e) Reason

This AD was prompted by reports of failures of the right inner tank fuel pump. We are issuing this AD to prevent a fuel pump from overheating, which could result in a fuel tank explosion and consequent loss of the airplane.

(f) Compliance

Comply with this AD within the compliance times specified, unless already done.

(g) Retained: Repetitive Functional Tests of Circuit Breakers, With New Terminating Action

This paragraph restates the requirements of paragraph (g) of AD 2014-13-17, with a new terminating action.

(1) Within 6 months or 500 flight hours after August 19, 2014 (the effective date of AD 2014-13-17), whichever occurs first: Do a functional test of the circuit breakers for the fuel pump power supply, as identified in paragraphs (g)(1)(i), (g)(1)(ii), and (g)(1)(iii) of this AD, as applicable, in accordance with Airbus Alert Operators Transmission A28W002-13, dated July 23, 2013. Repeat the functional test thereafter at intervals not to exceed 6 months or 500 flight hours, whichever occurs first, until the fuel pump installation required by paragraph (h) of this AD is accomplished.

(i) For Airbus Model A300 B2-1A, B2-1C, B2K-3C, and B2-203 airplanes: Inner and outer pump, No. 1 and No. 2, left-hand (LH) side and right-hand (RH) side.

(ii) For Airbus Model A300 B4-2C, B4-103, B4-203, B4-601, B4-603, B4-620, and B4-622 airplanes; and A310-203, -204, -221, and -222 airplanes:

(A) Inner and outer pump, No. 1 and No. 2, LH and RH; and

(B) Center pump, LH and RH.

(iii) For Airbus Model A300 B4-605R, B4-622R, F4-605R, F4-622R, and C4-605R Variant F airplanes; and Model A310-304, -322, -324, and -325 airplanes:

(A) Inner and outer pump, No. 1 and No. 2, LH and RH;

(B) Center pump, LH and RH; and

(C) Trim tank pump No. 1 and No. 2.

(2) If, during any functional test required by paragraph (g)(1) of this AD, any circuit breaker fails any functional test, or any circuit breaker is found to be stuck closed, before further flight, replace the affected circuit breaker with a serviceable part, in accordance with Airbus Alert Operators Transmission A28W002-13, dated July 23, 2013.

(3) The replacement of one or more circuit breakers as required by paragraph (g)(2) of this AD does not terminate the repetitive functional tests required by paragraph (g)(1) of this AD.

(h) New Requirement of This AD: Installation of Fuel Pumps Having a New Standard

Within 72 months after the effective date of this AD: Install a fuel pump having a new standard at each applicable location on the airplane, in accordance with the Accomplishment Instructions of the applicable service information specified in paragraph (h)(1), (h)(2), or (h)(3) of this AD. Accomplishment of the installation of fuel pumps having the new standard terminates the requirement for the repetitive functional tests required by paragraph (g)(1) of this AD.

(1) Airbus Service Bulletin A300-28-0093, dated December 15, 2015.

(2) Airbus Service Bulletin A300-28-6111, Revision 01, dated February 29, 2016.

(3) Airbus Service Bulletin A310-28-2176, dated December 15, 2015.

(i) Parts Installation Prohibition

After the installation of any fuel pump having a new standard on an airplane, as required by paragraph (h) of this AD, no person may install any fuel pump having part number 2052Cxx (where “xx” represents any numerical combination) on that airplane.

(j) Credit for Previous Actions

This paragraph provides credit for the installation required by paragraph (h) of this AD, if the installation was done before the effective date of this AD using Airbus Service Bulletin A300-28-6111, dated December 15, 2015.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to the attention of the person identified in paragraph (l)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any Airbus service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA AD 2016-0080, dated April 21, 2016, for related information. This MCAI may be found in the AD docket on the Internet at http://www.regulations.gov by searching for and locating Docket No. FAA-2017-0339.

(2) For more information about this AD, contact Dan Rodina, Aerospace Engineer, International Branch, ANM-116, Transport Airplane Directorate, FAA, 1601 Lind Avenue SW., Renton, WA 98057-3356; telephone 425-227-2125; fax 425-227-1149.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on May 8, 2017.
Michael Kaszycki,
Acting Manager, Transport Airplane Directorate, Aircraft Certification Service.

[FR Doc. 2017-09845 Filed 5-15-17; 8:45 am]

BILLING CODE 4910-13-P